DEPARTMENT OF HOMELAND SECURITY

Coast Guard

33 CFR Part 117

[Docket No. USCG-2013-0857]

Drawbridge Operation Regulation; Albemarle Sound to Sunset Beach, Atlantic Intracoastal Waterway (AICW), Wrightsville Beach, NC

AGENCY: Coast Guard, DHS.

ACTION: Notice of deviation from drawbridge regulation.

SUMMARY: The Coast Guard has issued a temporary deviation from the operating schedule that governs the S.R. 74 Bridge across the AICW, at mile 283.1, at Wrightsville Beach, NC. The deviation is necessary to facilitate a significant bridge rehabilitation project. This temporary deviation allows the drawbridge to only open on the hour for all vessels during daytime hours.

DATES: This deviation is effective from October 28, 2013 through March 1, 2014, and has been enforced with actual notice since October 1, 2013.

ADDRESSES: The docket for this deviation, [USCG-2013-0857] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone (757) 398-6557, email James.L.Rousseau2@uscg.mil. If you have questions on reviewing the docket, call Barbara Hairston, Program Manager, Docket Operations, (202) 366-9826.

SUPPLEMENTARY INFORMATION: The North Carolina Department of Transportation, who owns and operates the S.R. 74 Bridge, has requested a temporary deviation from the current operating regulations set out in 33 CFR 117.821(a)(6), which is effective until March 1, 2014 (see 78 FR 23849, Apr. 23,2013 Coast Guard.) This deviation is necessary to facilitate a significant rehabilitation project that has been delayed due to frequent additional openings for commercial vessels.

Under the current operating schedule, the draw for the S.R. 74 Bridge across the AICW, at mile 283.1, at Wrightsville Beach, NC shall open on signal for commercial vessels at all times and on signal for pleasure vessels except between 7 a.m. and 7 p.m., when it shall only open on the hour. For all vessels the draw need not open from 7 p.m. to 7 a.m., except with a two hour advance notice. The draw need not open for annual triathlon events that occur from September through November. The S.R. 74 Bridge has a temporary vertical clearance in the closed position of 18 feet above mean high water for ongoing maintenance.

Under this temporary deviation, the drawbridge need only open on the hour between 7 a.m. to 7 p.m. daily for all vessels, beginning at 7 a.m., on Tuesday, October 1, 2013 until and including to 7 p.m., on Sunday March 1, 2014. The bridge will operate under its current operating schedule at all other times. The Coast Guard has carefully reviewed bridge opening logs and coordinated the restrictions with commercial and recreational waterway users.

Vessels able to pass under the bridge in the closed position may do so at anytime and are advised to proceed with caution. The bridge will be able to open for emergencies. There is no immediate alternate route for vessels transiting this section of the AICW but vessels may pass before and after the closure each day. The Coast Guard will also inform additional waterway users through our Local and Broadcast Notices to Mariners of the closure periods for the bridge so that vessels can arrange their transits to minimize any impacts caused by the temporary deviation.

In accordance with 33 CFR 117.35(e), the drawbridge must return to its regular operating schedule immediately at the end of the designated time period. This deviation from the operating regulations is authorized under 33 CFR 117.35.

Dated: September 25, 2013.
Waverly W. Gregory, Jr.,
Bridge Program Manager, Fifth Coast Guard District.

[FR Doc. 2013-25294 Filed 10-25-13; 8:45 am]

BILLING CODE 9110-04-P